DEPARTMENT OF HOMELAND SECURITY

Coast Guard

33 CFR Part 117

[USCG-2015-0448]

Drawbridge Operation Regulations; Gulf Intracoastal Waterway, Harvey, LA

AGENCY: Coast Guard, DHS.

ACTION: Notice of deviation from regulation.

SUMMARY: The Coast Guard has issued a temporary deviation from the operating schedule that governs the Harvey Canal Railroad Bascule Bridge across Gulf Intracoastal Waterway, mile 0.2 west of Harvey Lock (Harvey Canal), at Harvey, Jefferson Parish, Louisiana. This deviation provides for the bridge to remain closed to navigation for 175 consecutive hours to replace the north side bronze pinion bearing bushing to the drawbridge.

DATES: This deviation is effective from noon on Friday, June 19, 2015 until 7 p.m. on Friday, June 26, 2015.

ADDRESSES: The docket for this deviation, [USCG-2015-0448] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Donna Gagliano, Bridge Specialist, Coast Guard; telephone 504-671-2128, email Donna.Gagliano@uscg.mil. If you have questions on viewing the docket, call Cheryl Collins, Program Manager, Docket Operations, telephone 202-366-9826.

SUPPLEMENTARY INFORMATION: The New Orleans and Gulf Coast Railway Company has requested a temporary deviation from the operating schedule for the Harvey Canal Railroad Bascule Bridge across Gulf Intracoastal Waterway, mile 0.2 west of Harvey Lock (Harvey Canal), at Harvey, Jefferson Parish, Louisiana. The bridge has a vertical clearance of 9 feet above mean high water in the closed-to-navigation position and 75 feet above mean high water in the open-to-navigation position.

Presently, the bridge opens on signal according to operating regulation Tile 33 CFR 117.5. This deviation is effective from noon on Friday, June 19, 2015 until 7 p.m. on Friday, June 26, 2015. This deviation provides for the bridge to remain closed-to-navigation for 175 consecutive hours.

For the duration of the replacement of the bronze pinion bearing bushings, vessels will not be allowed to pass through the bridge in order to complete the needed replacement.

The closure is necessary in order to replace the north side bronze pinion bearing bushing to the drawbridge essential for the continued safe operation of the draw span of the railroad bridge. The Coast Guard has coordinated the closure with waterway users, industry, and other Coast Guard units. It has been determined that this closure will not have a significant effect on vessel traffic.

Navigation on the waterway consists mainly of tugs with tows. The bridge will not be able to open for emergencies and there is an alternate route available via the Gulf Intracoastal Waterway (Algiers Alternate Route) to avoid unnecessary delays.

The Coast Guard will also inform the users of the waterway through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulation is authorized under 33 CFR 117.35.

Dated: May 21, 2015
David M. Frank,
Bridge Administrator, Eighth Coast Guard District.

[FR Doc. 2015-12812 Filed 5-27-15; 8:45 am]

BILLING CODE 9110-04-P